DEPARTMENT OF COMMERCE

National Oceanic and Atmospheric Administration

RIN 0648-XC691

Western Pacific Fishery Management Council; Public Meetings

AGENCY: National Marine Fisheries Service (NMFS), National Oceanic and Atmospheric Administration (NOAA), Commerce.

ACTION: Notice of public meeting.

SUMMARY: The Western Pacific Regional Fishery Management Council's (Council) will convene meetings of its Hawaii, American Samoa, Guam and Commonwealth of the Mariana Islands (CNMI) Archipelagic Advisory Panels (APs) and the Hawaii Regional Ecosystem Advisory Committee (REAC) (see SUPPLEMENTARY INFORMATION for specific times, dates, and agenda items).

DATES: The Guam AP will be held on June 3, 2013, from 6 p.m.-10 p.m. The American Samoa AP will be held on June 5, 2013 from 2 p.m. to 6 p.m. The CNMI AP will be held on June 5, 2013 from 10 p.m.-5 p.m. The Hawaii AP will be held on June 13, 2013 from 9 a.m.-2 p.m. The Hawaii REAC will be held on June 12, 2013, from 9 a.m. to 4 p.m.

ADDRESSES: The Guam AP meeting will be held at the Guam Fishermen's Cooperative, Greg D. Perez Marina, Hagatna Boat Basin, Guam, phone: (671) 472-6323. The American Samoa AP will be held at Toa's Bar and Grill Conference Room, Lions Park Road Nu'uuli Village, American Samoa, phone: (684) 699-2901. The CNMI AP will be held at the Conference Room, Department of Lands and Natural Resources Lower Base Drive, Saipan, CNMI, phone: (670) 664-6000. The Hawaii AP and the Hawaii REAC meetings will be held at the Western Pacific Regional Fishery Management Council office, 1164 Bishop Street, Suite 1400, Honolulu, HI, phone (808) 522-8220.

FOR FURTHER INFORMATION CONTACT: Kitty M. Simonds, Executive Director; telephone: (808) 522-8220.

SUPPLEMENTARY INFORMATION:

Agenda for Guam AP, June 3, 2013, 6 p.m.-10 p.m.

1. Welcome and introduction

2. Update on previous AP recommendations

3. Update on Roles and Responsibilities of AP

3. Review of Council Issues

A. Pelagic and International fisheries

B. Insular Fisheries

C. Protected Species

D. Annual Catch Limits

E. Fishery Community Engagement

4. Guam AP issues

5. Discussion and AP Recommendations to Council

Agenda for American Samoa AP, June 5, 2013, 2 p.m.-6 p.m.

1. Welcome and introduction

2. Update on previous AP recommendations

3. Update on Roles and Responsibilities of AP

4. Annual Catch Limits

5. Update on AS Fishermen Database

6. Revision of American Samoa longline swordfish catch limit

7. Review of minimum 100 m hook depth for American Samoa longline fishery

8. Dock issues in Pago Pago Harbor

9. Incentive program for local fishermen to promote fishing and provision of catch data

10. Equipment store at the Fagatogo Marketplace

11. Fishing issues at Aunu'u with new Sanctuary regulations

12. Potential training opportunities for AP Members

13. Potential funding sources to assist local small fishing boat owners

14. AP outreach out to Manu'a fishermen

15. Discussion and AP Recommendations to Council

Agenda for CNMI AP, June 7, 2013, 1 p.m.-5 p.m.

1. Welcome and introduction

2. Election of Chairman

3. Advisory Panel Duties

4. Department of Defense Training Proposals

5. Proposed Fisheries Legislations

6. Update on CNMI Fisheries Review Committee

7. Update on CNMI Bio-sampling Program

8. Status of Endangered Species Act (ESA) Listings

9. Marine Conservation Plan Updates

10. Fisheries Development Projects

11. Upcoming Council Actions and Annual Catch Limits

12. Other Business

13. Public Comment

14. Discussion and AP Recommendations to Council

Hawaii AP Agenda, June 13, 2013, 9 a.m.-2 p.m.

1. Welcome and introduction

2. Update on previous AP recommendations

3. Update on Roles and Responsibilities of AP

3. Review of Council Issues

A. Pelagic and International fisheries

B. Insular Fisheries

C. Protected Species

D. Annual Catch Limits

E. Fishery Community Engagement

4. Hawaii AP issues

5. Discussion and AP Recommendations to Council

Hawaii REAC agenda, June 12, 2013, 9 a.m.-4 p.m.

1. Welcome and introduction

2. Approval of Agenda

3. Update on REAC 2012 Recommendations and activities

4. Assessing Ecosystem Effects in Climate Change

A. Effects of sea-level rise on Hawaii Coastal Communities

B. Ocean acidification

C. Climate change impacts on marine ecosystems

D. Understanding potential impacts to Hawaii Fisheries

i. Offshore fisheries

ii. Coastal fisheries

5. Break

6. Agency Perspectives on climate change and cultural resource adaptation

7. Management planning for Climate Change Impact

8. Discussion and Recommendations

9. Public Comment

10. Other Business

11. Recommendations

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 15, 2013.
Tracey L. Thompson,
Acting Deputy Director, Office of Sustainable Fisheries, National Marine Fisheries Service.

[FR Doc. 2013-11966 Filed 5-17-13; 8:45 am]

BILLING CODE 3510-22-P